PRESIDIO TRUST

The Presidio of San Francisco, California; Amendment of Notice of Intent and Extension of the Public Comment Period for the Presidio Trust Implementation Plan Supplemental Environmental Impact Statement

AGENCY: The Presidio Trust.

ACTION: Amendment of initial Notice of Intent to conduct public scoping and prepare a Supplemental Environmental Impact Statement and extension of scoping period.

SUMMARY: The Presidio Trust (Trust) is amending its Notice of Intent published on June 30, 2000 (65 FR 40707) to add a third public scoping meeting and make factual corrections. The Trust is also extending the previously announced scoping period from November 15, 2000 to December 8, 2000 to provide additional time for the public to make views known regarding the Presidio Trust Implementation Plan (PTIP) Environmental Impact Statement (EIS). The PTIP EIS is a supplement to the 1994 Final General Management Plan Amendment (GMPA) EIS for the Presidio.

SUPPLEMENTARY INFORMATION: On June 30, 2000, the Trust announced its intention to prepare a Supplemental EIS for PTIP and to hold two public scoping meetings to determine the scope of impact topics and alternatives to be addressed in the Supplemental EIS (first NOI; 65 FR 40707-08). The first public workshop on July 12, 2000 addressed scoping issues and solicited public comment regarding the range of issues, alternatives, and specific impacts to be evaluated in the Supplemental EIS. A second workshop, not originally planned but widely announced through a variety of media and held on September 13, 2000, solicited comments on financial planning concepts that will help shape the alternatives to be evaluated in the EIS. A third workshop, previously planned for October 11, 2000 and now rescheduled for November 15, 2000 will present conceptual alternatives to be addressed in the EIS and visions for the Presidio's future. The extension of the scoping period until December 8, 2000 will enable the public to review and comment on the alternatives prior to their being analyzed in the EIS.

In addition to schedule changes, the first NOI stated an intent to prepare an “amendment” to the 1994 GMPA. Due to the term “amendment” causing public confusion, the Trust is clarifying that the comprehensive plan to be prepared and analyzed through the Supplemental EIS will update the 1994 GMPA for Area B (the area of the Presidio under the Trust's jurisdiction) and be adopted by the Trust Board of Directors as the governing comprehensive plan for Area B. It will retain many elements of the 1994 GMPA, but will update others that have been affected by changes since the GMPA was finalized. The GMPA will remain the governing plan for Area A of the Presidio under the jurisdiction of the U.S. Department of the Interior, National Park Service (NPS).

PUBLIC MEETING: The Trust will solicit public comments on the conceptual alternatives proposed for analysis in the EIS and on visions for Area B of the Presidio at the third of three public scoping workshops on Wednesday, November 15, 2000 from 6 to 9 p.m. at the Log Cabin (Building 1299), Fort Scott at the Presidio.

ADDRESSES: Written comments concerning the content of the plan and the scope of the Supplemental EIS should be sent by December 8, 2000 to John Pelka, NEPA Compliance Coordinator, The Presidio Trust, 34 Graham Street, P.O. Box 29052, San Francisco, CA 94129-0052. Fax: 415-561-5315. E-mail: ptip@presidiotrust.gov.

FOR FURTHER INFORMATION: Contact: John Pelka, NEPA Compliance Coordinator, The Presidio Trust, 34 Graham Street, P.O. Box 29052, San Francisco, CA 94129-0052. Telephone: 415-561-5300.

Reference: 40 CFR 1508.22.

Dated: October 4, 2000.
Karen A. Cook,
General Counsel.

[FR Doc. 00-26004 Filed 10-10-00; 8:45 am]

BILLING CODE 4310-4R-P